DEPARTMENT OF HOMELAND SECURITY

Coast Guard

33 CFR Part 117

[CGD01-07-003]

Drawbridge Operation Regulations; Reynolds Channel, Lawrence, NY

AGENCY: Coast Guard, DHS.

ACTION: Notice of temporary deviation from regulations.

SUMMARY: The Commander, First Coast Guard District, has issued a temporary deviation from the regulation governing the operation of the Atlantic Beach Bridge across Reynolds Channel, mile 0.4, at Lawrence, New York. Under this temporary deviation, an advance notice shall be required for bridge openings from February 26, 2007 through March 2, 2007, from 7 a.m. to 5:30 p.m. This deviation is necessary to facilitate scheduled bridge maintenance.

DATES: This deviation is effective from February 26, 2007 through March 2, 2007.

ADDRESSES: Materials referred to in this document are available for inspection or copying at the First Coast Guard District, Bridge Branch Office, One South Street, New York, New York 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7195.

SUPPLEMENTARY INFORMATION: The Atlantic Beach Bridge, across Reynolds Channel at mile 0.4, at Lawrence, New York, has a vertical clearance in the closed position of 25 feet at mean high water and 30 feet at mean low water. The existing drawbridge operation regulations are listed at 33 CFR 117.5.

The owner of the bridge, Nassau County Bridge Authority, requested a temporary deviation to facilitate scheduled bridge span lock maintenance. The bridge will not be able to open while the bridge maintenance is underway. An advance notice for openings is necessary in order to have the bridge operational for vessel traffic.

Under this temporary deviation the bridge shall open on signal after at least a 1-hour advance notice is given between 7 a.m. and 5:30 p.m. from February 26, 2007 through March 2, 2007.

The contact information for providing the advance notice for bridge openings shall be via marine radio channel 13 or by calling (516) 239-1821.

In accordance with 33 CFR 117.35(c), this work will be performed with all due speed in order to return the bridge to normal operation as soon as possible.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

This deviation from the operating regulations is authorized under 33 CFR 117.35.

Dated: January 16, 2007.
Gary Kassof,
Bridge Program Manager, First Coast Guard District.

[FR Doc. E7-993 Filed 1-23-07; 8:45 am]

BILLING CODE 4910-15-P